DEPARTMENT OF AGRICULTURE

Rural Utilities Service

Information Collection Activity; Comment Request

AGENCY: Rural Utilities Service, USDA.

ACTION: Notice and request for comments.

SUMMARY: In accordance with the Paperwork Reduction Act of 1995 (44 U.S.C. Chapter 35, as amended), the Rural Utilities Service (RUS) invites comments on this information collection for which RUS intends to request approval from the Office of Management and Budget (OMB).

DATES: Comments on this notice must be received by March 14, 2006.

FOR FURTHER INFORMATION CONTACT: Michele Brooks, Deputy Director, Program Development and Regulatory Analysis, Rural Utilities Service, 1400 Independence Ave., SW., STOP 1522, Room 5159 South Building, Washington, DC 20250-1522. Telephone: (202) 690-1078. FAX: (202) 720-4120.

SUPPLEMENTARY INFORMATION: The Office of Management and Budget's (OMB) regulation (5 CFR 1320) implementing provisions of the Paperwork Reduction Act of 1995 (Pub. L. 104-13) requires that interested members of the public and affected agencies have an opportunity to comment on information collection and recordkeeping activities (see 5 CFR 1320.8(d)). This notice identifies an information collection that RUS is submitting to OMB for revision.

Comments are invited on: (a) Whether the proposed collection of information is necessary for the proper performance of the functions of the Agency, including whether the information will have practical utility; (b) the accuracy of the Agency's estimate of the burden of the proposed collection of information including the validity of the methodology and assumptions used; (c) ways to enhance the quality, utility and clarity of the information to be collected; and (d) ways to minimize the burden of the collection of information on those who are to respond, including through the use of appropriate automated, electronic, mechanical, or other technological collection techniques or other forms of information technology. Comments may be sent to Michele Brooks, Deputy Director, Program Development and Regulatory Analysis, Rural Utilities Service, U.S. Department of Agriculture, STOP 1522, 1400 Independence Ave., SW., Washington, DC 20250-1522. Fax: (202) 720-4120.

Title: RUS Form 479, “Financial and Statistical Report for Telecommunications Borrowers.”

OMB Control Number: 0572-0031.

Type of Request: Revision of an existing information collection package.

Abstract: The Rural Utilities Service (RUS) is a credit agency of the U.S. Department of Agriculture (USDA). It makes mortgage loans and loan guarantees to finance electric, broadband, telecommunications and water and waste facilities in rural areas. In addition to providing loans and loan guarantees, one of RUS' main objectives is to safeguard loan security until the loan is repaid.

This collection of information previously covered RUS Form 479, “Financial and Statistical Report for Telecommunications Borrowers.” The data collected on the Form 479 is known as Operating Report data. The agency has developed the USDA Data Collection System which is an electronic system for collecting Operating Report Data for Electric, Telecommunications, and Broadband borrowers. As the agency is moving from a form-based collection to an electronic system for data collection, the name of this information collection will be revised to Operating Reports for Telecommunications and Broadband Borrowers. The purposes for collecting the data remain unchanged, which is to provide RUS with vital financial information needed to ensure the maintenance of the security for the Government's loans; and statistical data which enables RUS to ensure the provision of quality telecommunications and broadband service as mandated by the Rural Electrification Act (RE Act) of 1936. The primary purpose of the RUS Form 479 was to provide RUS with financial information to ensure loan security consistent with due diligence. Secondary to this purpose was the use of the form for a variety of financial and statistical based studies performed throughout the year. These functions are essential to protect loan security and to achieve objectives of the RE Act. New to this collection is the requirement for Broadband Borrowers to submit Operating Report Data. Both the Operating Report for Telecommunications Borrowers and the Operating Report for Broadband Borrowers are required by the loan contract and provide RUS with vital financial information needed to ensure the maintenance of the security for the Government's loans and service data which enables RUS to ensure the provision of quality telecommunications and broadband service as mandated by the RE Act of 1936.

Also added to this collection is the use of a new RUS Form 674, “Certificate of Authority to Submit or Grant Access to Data.” This form has been developed for use in collecting information that will allow RUS Electric, Telecommunications, and Broadband program borrowers to file electronic Operating Reports with the agency using the new USDA Data Collection System. RUS Form 674, accompanied by a Board Resolution, will identify the name and USDA eAuthentication ID for a certifier and security administrator that will have access to the USDA Data Collection System for purposes of filing electronic Operating Reports.

Estimate of Burden: This collection of information is estimated to average 1.72 hours per response.

Respondents: Business or other for-profit and Not-for-profit institutions.

Estimated Number of Respondents: 1,290.

Estimated Number of Responses per Respondent: 1.64.

Estimated Total Annual Burden on Respondents: 3,643.

Copies of this information collection can be obtained from Michele Brooks, Program Development and Regulatory Analysis, at (202) 690-1078. FAX: (202) 720-4120.

All responses to this notice will be summarized and included in the request for OMB approval. All comments will also become a matter of public record.

Dated: January 5, 2006.
James M. Andrew,
Administrator, Rural Utilities Service.

[FR Doc. E6-329 Filed 1-12-06; 8:45 am]

BILLING CODE 3410-15-P